FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[August 1, 2017 through August 31, 2017]
08/01/2017
20171618 | G | New Mountain Partners IV, L.P.; Larsen MacColl Partners, L.P.; New Mountain Partners IV, L.P.
08/02/2017
20171591 | G | Michael Ashley; The Finish Line, Inc.; Michael Ashley.
08/03/2017
20171584 | G | Stanley G. Middleman; New York Community Bancorp, Inc.; Stanley G. Middleman.
08/04/2017
20171603 | G | ABM Industries Incorporated; GCA Holding Corp.; ABM Industries Incorporated.
20171631 | G | Cincinnati Bell Inc.; Marlin Equity III, L.P.; Cincinnati Bell Inc.
08/07/2017
20171626 | G | OZ Overseas Fund II, Ltd.; EQT Corporation; OZ Overseas Fund II, Ltd.
20171641 | G | ArcLight Energy Partners Fund VI, L.P.; Halcon Resources Corporation; ArcLight Energy Partners Fund VI, L.P.
20171649 | G | Golden Gate Capital Opportunity Fund, L.P.; Summit Park II, L.P.; Golden Gate Capital Opportunity Fund, L.P.
20171652 | G | EQT Infrastructure III (No. 1) SCSp; Jacques R. and Naila Saade; EQT Infrastructure III (No. 1) SCSp.
20171656 | G | Michael Gregory O'Hara; Alexandre Chemla; Michael Gregory O'Hara.
20171657 | G | Magellan Health, Inc.; TA XI L.P.; Magellan Health, Inc.
20171662 | G | China Regenerative Medicine International Limited; Valeant Pharmaceuticals International, Inc.; China Regenerative Medicine International Limited.
20171666 | G | AI Fresh Parent, Inc.; FS Equity Partners VI, L.P.; AI Fresh Parent, Inc.
20171670 | G | DENSO Corporation; Fujitsu Limited; DENSO Corporation.
20171675 | G | Blackstone Capital Partners VII L.P.; Providence Equity Partners VII-A L.P.; Blackstone Capital Partners VII L.P.
20171679 | G | Konica Minolta, Inc.; Ambry Genetics Corporation; Konica Minolta, Inc.
20171681 | G | AE Industrial Partners Fund I, L.P.; CDI Corp.; AE Industrial Partners Fund I, L.P.
20171684 | G | Platinum Equity Capital Partners IV, L.P.; USS Ultimate Holdings, Inc.; Platinum Equity Capital Partners IV, L.P.
08/08/2017
20171636 | G | MetLife Inc.; Fortress Investment Group LLC; MetLife Inc.
20171659 | G | Oaktree Capital Group Holdings, L.P.; Fifth Street Holdings, L.P.; Oaktree Capital Group Holdings, L.P.
20171661 | G | Royal Dutch Shell plc; MP2 Energy LLC; Royal Dutch Shell plc.
20171683 | G | Centerbridge Capital Partners III, L.P.; Warburg Pincus Private Equity XI, L.P.; Centerbridge Capital Partners III, L.P.
08/09/2017
20171630 | G | Campbell Soup Company; Charles W. Eggert; Campbell Soup Company.
08/10/2017
20171677 | G | University of MD Medical System, Corp.; Dimensions Health Corporation; University of MD Medical System, Corp.
08/14/2017
20171616 | G | Tiger Global Private Investment Partners VII, L.P.; InVisionapp Inc.; Tiger Global Private Investment Partners VII, L.P.
20171617 | G | Tiger Global Private Investment Partners VIII, L.P.; InVisionapp Inc.; Tiger Global Private Investment Partners VIII, L.P.
20171619 | G | LSC Communications, Inc.; Allan H. Creel and Deborah J. Creel; LSC Communications, Inc.
20171646 | G | Markel Corporation; Costa Nursery Farms Holdings, Inc.; Markel Corporation.
20171651 | G | McCormick & Company Incorporated; Reckitt Benckiser Group plc; McCormick & Company Incorporated.
20171660 | G | Central Valley Ag Cooperative; Farmway Co-op, Inc.; Central Valley Ag Cooperative.
20171671 | G | MPLX LP; Marathon Petroleum Corporation; MPLX LP.
20171672 | G | MPLX LP; Explorer Pipeline Company; MPLX LP.
20171689 | G | Innophos Holdings, Inc.; GenNx360 Capital Partners II, L.P.; Innophos Holdings, Inc.
20171691 | G | Wyndham Worldwide Corporation; Northcott Hospitality International, LLC; Wyndham Worldwide Corporation.
20171696 | G | Jabil Inc.; Douglas A. Hill; Jabil Inc.
20171706 | G | The E.W. Scripps Company; Katz Broadcasting Holdings, LLC; The E.W. Scripps Company.
20171707 | G | The E.W. Scripps Company; Bounce Media, LLC; The E.W. Scripps Company.
20171708 | G | Border States Industries, Inc.; Kriz-Davis Co.; Border States Industries, Inc.
20171716 | G | Carlyle Europe Partners IV, L.P.; Paiperlek Investments S.a.r.l.; Carlyle Europe Partners IV, L.P.
20171718 | G | Carlyle Europe Partners IV, L.P.; Secura TopCo Sarl; Carlyle Europe Partners IV, L.P.
20171719 | G | Callaway Golf Company; travisMathew, LLC; Callaway Golf Company.
20171720 | G | Michael Kors Holdings Limited; Agnaten SE; Michael Kors Holdings Limited.
20171732 | G | Decade Holding Company, Inc.; Ten-X, LLC; Decade Holding Company, Inc.
08/15/2017
20171687 | G | Bridge Growth Partners, LP; BackOffice Associates Holdings, LLC; Bridge Growth Partners, LP.
20171702 | G | Rockland Power Partners III, LP; Dynegy Inc.; Rockland Power Partners III, LP.
20171712 | G | WME Entertainment Parent, LLC; Zuffa Parent, LLC; WME Entertainment Parent, LLC.
20171717 | G | KKR Americas Fund XII, L.P.; Carlyle Partners V, L.P.; KKR Americas Fund XII, L.P.
20171731 | G | Mercuria Energy Group Holding Limited; Noble Group Limited; Mercuria Energy Group Holding Limited.
20171749 | G | Open Text Corporation; Guidance Software, Inc.; Open Text Corporation.
08/16/2017
20171634 | G | Mylan N.V.; Medicure, Inc.; Mylan N.V.
20171673 | G | H&E Equipment Services, Inc.; Wayzata Opportunities Fund II, L.P.; H&E Equipment Services, Inc.
20171709 | G | West Fraser Timber Co. Ltd.; The Howard Gilman Foundation, Inc.; West Fraser Timber Co. Ltd.
20171710 | G | Starwood Energy Infrastructure Fund II Investor, L.L.C.; Dynegy Inc.; Starwood Energy Infrastructure Fund II Investor, L.L.C.
08/17/2017
20171486 | G | Eventbrite, Inc.; Pandora Media, Inc.; Eventbrite, Inc.
08/18/2017
20171632 | G | Kinnevik AB; Betterment Holdings, Inc.; Kinnevik AB.
20171645 | G | Sean Rad; IAC/InterActiveCorp; Sean Rad.
20171648 | G | Paysafe Group PLC; Delta Card Services, Inc.; Paysafe Group PLC.
20171723 | G | Softbank Group Corp.; Kabbage Inc.; Softbank Group Corp.
20171725 | G | Stichting Administratiekantoor Lauwerecht; American Midstream Partners, LP; Stichting Administratiekantoor Lauwerecht.
20171728 | G | Energy Future Holdings Corp.; InfraREIT, Inc.; Energy Future Holdings Corp.
08/21/2017
20171721 | G | Dr. Gilles G. Martin; DiscoveRx Corporation; Dr. Gilles G. Martin.
20171724 | G | Johnson & Johnson; TearScience, Inc.; Johnson & Johnson.
20171734 | G | Markel Corporation; State National Companies, Inc.; Markel Corporation.
20171735 | G | Kayne Private Energy Income Fund, L.P.; QEP Resources, Inc.; Kayne Private Energy Income Fund, L.P.
20171736 | G | KKR North America XI (Indigo) Blocker Parent L.P.; KKR North America Fund XI, L.P.; KKR North America XI (Indigo) Blocker Parent L.P.
20171738 | G | KKR North America XI (Indigo) Blocker Parent L.P.; WebMD Health Corp.; KKR North America XI (Indigo) Blocker Parent L.P.
20171739 | G | Fortive Corporation; McElhattan Family Enterprises, L.P.; Fortive Corporation.
20171740 | G | Oak Hill Capital Partners IV (Onshore), L.P.; Carlyle Global Financial Services Partners II, LP; Oak Hill Capital Partners IV (Onshore), L.P.
20171760 | G | Wells Fargo & Company; Seneca Mortgage Investments, L.P.; Wells Fargo & Company.
20171762 | G | AEA Investors Fund VI LP; Trilantic Capital Partners V (North America) AIV L.P.; AEA Investors Fund VI L.P.
20171769 | G | Insight Venture Partners VII, L.P.; Udemy, Inc.; Insight Venture Partners VII, L.P.
20171771 | G | Wrangler Aggregator L.P.; MIP Waste Holdings, L.P.; Wrangler Aggregator L.P.
20171772 | G | Johnson & Johnson; Bavarian Nordic A/S; Johnson & Johnson.
20171774 | G | Mitel Networks Corporation; ShoreTel, Inc.; Mitel Networks Corporation.
20171780 | G | Genesis Energy, L.P.; Tronox Limited; Genesis Energy, L.P.
20171781 | G | Beitlich Familienstiftung; Century Park Capital Partners II, L.P.; Beitlich Familienstiftung.
20171784 | G | Sony Corporation; FUNimation Holdings, LLC; Sony Corporation.
20171786 | G | Housatonic Equity Investors VI, L.P.; Douglas Libertore; Housatonic Equity Investors VI, L.P.
20171796 | G | Marsh & McLennan Companies, Inc.; Elliott International Limited; Marsh & McLennan Companies, Inc.
08/22/2017
20171775 | G | VEPF III AIV VI, L.P.; Global Payments Inc.; VEPF III AIV VI, L.P.
20171776 | G | Global Payments Inc.; Athlaction Topco, LLC; Global Payments Inc.
20171777 | G | VEPF IV AIV VII, L.P.; Global Payments Inc.; VEPF IV AIV VII, L.P.
20171778 | G | VEP Global Aggregator, LLC; Global Payments Inc.; VEP Global Aggregator, LLC.
20171787 | G | Thoma Bravo Fund XII, L.P.; Frontline Technologies Group Holding LLC; Thoma Bravo Fund XII, L.P.
20171790 | G | Laboratory Corporation of America Holdings; The Myers Business Trust; Laboratory Corporation of America Holdings.
20171794 | G | Laurene Powell Jobs; David Bradley; Laurene Powell Jobs.
08/23/2017
20171694 | G | SES Legacy Holdings, Inc.; Rockwater Energy Solutions, Inc.; SES Legacy Holdings, Inc.
20171695 | G | SCF-VI, L.P.; SES Legacy Holdings, Inc.; SCF-VI, L.P.
20171748 | G | Emergent BioSolutions, Inc.; Sanofi; Emergent BioSolutions, Inc.
20171763 | G | Carlyle U.S. Equity Opportunity Fund II, L.P.; Charlesbank Equity Fund VII, Limited Partnership; Carlyle U.S. Equity Opportunity Fund II, L.P.
20171767 | G | Eli Lilly and Company; Nektar Therapeutics; Eli Lilly and Company.
20171782 | G | PRA Health Sciences, Inc.; STG III, L.P.; PRA Health Sciences, Inc.
08/24/2017
20171669 | G | Korber-Stiftung; Accel-KKR Capital Partners III, LP; Korber-Stiftung.
20171733 | G | G Holdings Inc.; GCP Applied Technologies, Inc.; G Holdings Inc.
08/25/2017
20171567 | G | Stryker Corporation; NOVADAQ Technologies Inc.; Stryker Corporation.
20171714 | G | Verisk Analytics, Inc.; Brazos Equity Fund III, L.P.; Verisk Analytics, Inc.
20171747 | G | New Media Investment Group Inc.; William S. Morris III and Mary Sue Morris; New Media Investment Group Inc.
20171797 | G | FS Equity Partners VII, L.P.; SKM Equity Fund III, L.P.; FS Equity Partners VII, L.P.
20171801 | G | KKR Americas Fund XII, L.P.; PharMerica Corporation; KKR Americas Fund XII, L.P.
20171804 | G | Levine Leichtman Capital Partners V, L.P.; Francisco Partners III (Domestic AIV), L.P.; Levine Leichtman Capital Partners V, L.P.
20171807 | G | ACP Investment Fund III-A, L.P.; SYFS Intermediate Holdings, LLC; ACP Investment Fund III-A, L.P.
20171814 | G | Levine Leichtman Capital Partners VI, L.P.; Kent P. Dauten; Levine Leichtman Capital Partners VI, L.P.
20171817 | G | General Atlantic Partners (Bermuda) III, L.P.; Hyperion Insurance Group Limited; General Atlantic Partners (Bermuda) III, L.P.
20171821 | G | KKR Americas Fund XII, L.P.; Covenant Surgical Investors, LLC; KKR Americas Fund XII, L.P.
20171829 | G | Mexichem, S.A.B. de C.V.; Permira IV Continuing L.P.2; Mexichem, S.A.B. de C.V.
08/28/2017
20171722 | G | Aldo Bensadoun; Estate of Vincent Camuto; Aldo Bensadoun.
20171793 | G | Bristol-Myers Squibb Company; IFM Therapeutics, Inc.; Bristol-Myers Squibb Company.
20171806 | G | Allscripts Healthcare Solutions, Inc.; McKesson Corporation; Allscripts Healthcare Solutions, Inc.
08/29/2017
20171741 | G | PS Holdings Indpendent Trust; Automatic Data Processing, Inc.; PS Holdings Indpendent Trust.
20171742 | G | Pershing Square VI International, L.P.; Automatic Data Processing, Inc.; Pershing Square VI International, L.P.
20171743 | G | Pershing Square International, Ltd.; Automatic Data Processing, Inc.; Pershing Square International, Ltd.
20171744 | G | Pershing Square, L.P.; Automatic Data Processing, Inc.; Pershing Square, L.P.
08/30/2017
20171737 | G | Equiniti Group plc; Wells Fargo & Company; Equiniti Group plc.
20171792 | G | Klaus-Michael Kuhne; Alfred P. Kuehlewind; Klaus-Michael Kuhne.
20171815 | G | Mallinckrodt plc; Longitude Venture Partners, LP; Mallinckrodt plc.
20171830 | G | Sarissa Capital Domestic Fund LP; Biogen Inc.; Sarissa Capital Domestic Fund LP.
08/31/2017
20171726 | G | Multi-Color Corporation; Wendel SE; Multi-Color Corporation.
20171727 | G | Wendel SE; Multi-Color Corporation; Wendel SE.
20171834 | G | Straumann Holding AG; ClearCorrect Holdings, Inc.; Straumann Holding AG.

For Further Information Contact

Theresa Kingsberry, Program Support Specialist, Federal Trade Commission Premerger Notification Office, Bureau of Competition, Room CC-5301, Washington, DC 20024, (202) 326-3100.

By direction of the Commission.
Donald S. Clark,
Secretary.

[FR Doc. 2017-19616 Filed 9-14-17; 8:45 am]

BILLING CODE 6750-01-P